DEPARTMENT OF COMMERCE

National Oceanic and Atmospheric Administration

RIN 0648-BB44

Fisheries of the Caribbean, Gulf of Mexico, and South Atlantic; Amendment 11 to the Fishery Management Plan for Spiny Lobster Resources of the Gulf of Mexico and South Atlantic; Intent To Prepare a Supplemental Environmental Impact Statement (SEIS); Request for Comments

AGENCY: National Marine Fisheries Service (NMFS), National Oceanic and Atmospheric Administration (NOAA), Commerce.

ACTION: Notice of Intent (NOI).

SUMMARY: NMFS, Southeast Region, in collaboration with the Gulf of Mexico and South Atlantic Fishery Management Councils (Councils) intends to prepare a SEIS to describe and analyze a range of alternatives for management actions to be included in Amendment 11 to the Fishery Management Plan for the Spiny Lobster Resources of the Gulf of Mexico and South Atlantic (FMP). These actions will consider closed areas for lobster fishing to protect Acropora corals and lobster trap line-marking requirements. The purpose of this NOI is to solicit public comments on the scope of issues to be addressed in the SEIS.

DATES: Written comments on the scope of issues to be addressed in the SEIS must be received by NMFS by October 19, 2011.

ADDRESSES: You may submit comments, identified by NOAA-NMFS-2011-0223, by any of the following methods:

• Electronic submissions: Submit electronic comments via the Federal e-Rulemaking Portal: http://www.regulations.gov. Follow the instructions for submitting comments.

• Mail: Susan Gerhart, Southeast Regional Office, NMFS, 263 13th Avenue South, St. Petersburg, FL 33701.

Instructions: All comments received are a part of the public record and will generally be posted to http://www.regulations.gov without change. All Personal Identifying Information (for example, name, address, etc.) voluntarily submitted by the commenter may be publicly accessible. Do not submit Confidential Business Information or otherwise sensitive or protected information.

To submit comments through the Federal e-rulemaking portal: http://www.regulations.gov, click on “submit a comment,” then enter “NOAA-NMFS-2011-0223” in the keyword search and click on “search.” To view posted comments during the comment period, enter “NOAA-NMFS-2011-0223” in the keyword search and click on “search.” NMFS will accept anonymous comments (enter N/A in the required field if you wish to remain anonymous). You may submit attachments to electronic comments in Microsoft Word, Excel, WordPerfect, or Adobe PDF file formats only.

FOR FURTHER INFORMATION CONTACT: Susan Gerhart, telephone: 727-824-5305 or e-mail: Susan.Gerhart@noaa.gov.

SUPPLEMENTARY INFORMATION: On August 27, 2009, an Endangered Species Act (ESA) biological opinion was completed that evaluated the impacts of the continued authorization of the trap component of the spiny lobster commercial sector on ESA-listed species. The opinion prescribed non-discretionary reasonable and prudent measures (RPMs) to help minimize the impacts of takes to ESA-listed species by the trap component of the spiny lobster commercial sector. Specific terms and conditions required to implement the prescribed RPMs included creating new or expanding existing closed areas to protect coral and implementing lobster trap line-marking requirements. A September 2, 2011, memo revised the 5-year phase-in period for the line-marking requirement to 5 years from implementation of the planned final rule or no later than August 6, 2017. The Councils are considering alternatives to meet these requirements.

Actions and alternatives to address these measures were included in Amendment 10 to the Spiny Lobster FMP. However, the Councils felt more time was needed to work with stakeholders in developing management measures. NMFS, in collaboration with the Councils, will develop a SEIS for Amendment 11 to describe and analyze alternatives to address the management needs described above. The alternatives will include a “no action” alternative regarding each action.

In accordance with NOAA's Administrative Order 216-6, Section 5.02(c), Scoping Process, NMFS, in collaboration with the Councils, has identified preliminary environmental issues as a means to initiate discussion for scoping purposes only. These preliminary issues may not represent the full range of issues that eventually will be evaluated in the SEIS.

Copies of an information packet will be available from NMFS (see ADDRESSES).

After the draft SEIS associated with Amendment 11 is completed, it will be filed with the Environmental Protection Agency (EPA). After filing, the EPA will publish a notice of availability of the draft SEIS for public comment in the Federal Register. The draft SEIS will have a 45-day public comment period. This procedure is pursuant to regulations issued by the Council on Environmental Quality (CEQ) for implementing the procedural provisions of the National Environmental Policy Act (NEPA; 40 CFR parts 1500-1508) and to NOAA's Administrative Order 216-6 regarding NOAA's compliance with NEPA and the CEQ regulations.

NMFS will consider public comments received on the draft SEIS in developing the final SEIS and before adopting final management measures for the amendment. NMFS will submit both the final amendment and the supporting SEIS to the Secretary of Commerce (Secretary) for review as required by the Magnuson-Stevens Fishery Conservation and Management Act.

NMFS will announce, through a notification in the Federal Register, the availability of the final amendment for public review during the Department of Commerce Secretarial review period. During Secretarial review, NMFS will also file the final SEIS with the EPA and the EPA will publish a notice of availability for the final SEIS in the Federal Register. This public comment period is expected to be concurrent with the Secretarial review period and will end prior to final agency action to approve, disapprove, or partially approve the amendment.

NMFS will announce, through a document published in the Federal Register, all public comment periods on the final amendment, its proposed implementing regulations, and the availability of its associated final SEIS. NMFS will consider all public comments received during the Secretarial review period, whether they are on the final amendment, the proposed regulations, or the final SEIS, prior to final agency action.

Authority: 16 U.S.C. 1801 et seq.

Dated: September 13, 2011.
Steven Thur,
Acting Director, Office of Sustainable Fisheries, National Marine Fisheries Service.

[FR Doc. 2011-24035 Filed 9-16-11; 8:45 am]

BILLING CODE 3510-22-P